DEPARTMENT OF JUSTICE

Office of the Attorney General

[A.G. Order No. 5680-2023]

Attorney General Designations of the European Union, Iceland, Liechtenstein, and Norway as “Qualifying States”

AGENCY: Office of the Attorney General, Department of Justice.

ACTION: Notice.

SUMMARY: In accordance with an Executive order, the Attorney General has designated the European Union, Iceland, Liechtenstein, and Norway as “qualifying states.”

DATES: July 13, 2023. The designations are to become effective on the date the European Commission adopts an adequacy decision for the Data Privacy Framework for the European Union (“EU”) and the United States of America (“U.S.” or the “United States”).

FOR FURTHER INFORMATION CONTACT: J. Bradford Wiegmann, Deputy Assistant Attorney General, National Security Division, United States Department of Justice, Washington, DC 20530; telephone: (202) 514-1057. This is not a toll-free number.

SUPPLEMENTARY INFORMATION: Executive Order 14086 of October 7, 2022 (Enhancing Safeguards for United States Signals Intelligence Activities), establishes a two-level redress mechanism for the review of qualifying complaints by individuals, filed through an appropriate public authority in a “qualifying state” and alleging certain violations of U.S. law concerning signals intelligence activities. A country or regional economic integration organization may be designated as a qualifying state by the Attorney General if he determines, in consultation with the Secretary of State, the Secretary of Commerce, and the Director of National Intelligence, that it meets the requirements set forth in section 3(f) of Executive Order 14086. The Attorney General has made those determinations on the basis of the information contained in the “Memorandum in Support of Designation of the European Union and Iceland, Liechtenstein and Norway as Qualifying States Under Executive Order 14086” prepared by the National Security Division of the Department of Justice, available at https://www.justice.gov/opcl/redress-data-protection-review-court.

Designation of the European Union, Iceland, Liechtenstein, and Norway Pursuant to Section 3(f) of Executive Order 14086

Consistent with section 3(f) of Executive Order 14086, and on the basis of the information contained in the memorandum referenced above, the Attorney General has determined, in consultation with the Secretary of State, the Secretary of Commerce, and the Director of National Intelligence, that:

(1) The laws of the EU or its member countries and those of Iceland, Liechtenstein, and Norway (together, the “European Economic Area”) require appropriate safeguards in the conduct of signals intelligence activities for United States persons' personal information that is transferred from the United States to the territory of the member countries of the European Economic Area;

(2) The EU, its member countries, and Iceland, Liechtenstein, and Norway, are anticipated, pursuant to an adequacy decision to be adopted by the European Commission, to permit the transfer of personal information for commercial purposes between the territory of the member countries of the European Economic Area and the territory of the United States; and

(3) Designation of the EU, Iceland, Liechtenstein, and Norway would advance the national interests of the United States.

The Attorney General designated the EU, Iceland, Liechtenstein, and Norway as qualifying states for purposes of eligibility for the redress mechanism established in section 3 of Executive Order 14086, with the designations to become effective on the date the European Commission adopts an adequacy decision for the EU-U.S. Data Privacy Framework.

Dated: June 30, 2023.
Merrick B. Garland,
Attorney General.

[FR Doc. 2023-14848 Filed 7-12-23; 8:45 am]

BILLING CODE 4410-01-P